DEPARTMENT OF ENERGY

10 CFR Part 431

[EERE-2017-BT-TP-0031]

Energy Conservation Program: Test Procedure for Three-Phase Commercial Air-Cooled Air Conditioners and Heat Pumps With a Certified Cooling Capacity of Less Than 65,000 Btu/h

AGENCY: Office of Energy Efficiency and Renewable Energy, Department of Energy.

ACTION: Request for information.

SUMMARY: The U.S. Department of Energy (“DOE”) is initiating a data collection process through this request for information (“RFI”) to consider whether to amend its test procedure for three-phase commercial air-cooled air conditioners and heat pumps with a cooling capacity of less than 65,000 British thermal units per hour (“Btu/h”). To inform interested parties and to facilitate this process, DOE has gathered data, identifying several issues associated with the currently applicable test procedures on which DOE is interested in receiving comment. The issues outlined in this document mainly concern three-phase commercial air-cooled air conditioners and heat pumps with a cooling capacity of less than 65,000 Btu/h and whether the test procedure and certification and compliance provisions for this equipment should align with those provisions that apply to single-phase central air conditioners and heat pumps with rated cooling capacities of less than 65,000 Btu/h; and any additional topics that may inform DOE's decisions in a future test procedure rulemaking, including methods to reduce regulatory burden while ensuring the procedure's accuracy. DOE welcomes written comments from the public on any subject within the scope of this document (including topics not raised in this RFI).

DATES: Written comments and information are requested and will be accepted on or before December 3, 2018.

ADDRESSES: Interested persons are encouraged to submit comments using the Federal eRulemaking Portal at http://www.regulations.gov. Follow the instructions for submitting comments. Alternatively, interested persons may submit comments, identified by docket number EERE-201X-BT-TP-0031, by any of the following methods:

1. Federal eRulemaking Portal: http://www.regulations.gov. Follow the instructions for submitting comments.

2. Email: AirCooledACHP2017TP0031@ee.doe.gov. Include EERE-2017-BT-TP-0031 in the subject line of the message. Submit electronic comments in WordPerfect, Microsoft Word, portable document format (PDF), or American Standard Code for Information Interchange (ASCII) file format, and avoid the use of special characters or any form of encryption.

3. Postal Mail: Appliance and Equipment Standards Program, U.S. Department of Energy, Building Technologies Office, Mailstop EE-5B, 1000 Independence Avenue SW, Washington, DC 20585-0121. If possible, please submit all items on a compact disc (CD), in which case it is not necessary to include printed copies.

4. Hand Delivery/Courier: Appliance and Equipment Standards Program, U.S. Department of Energy, Building Technologies Office, 950 L'Enfant Plaza SW, 6th Floor, Washington, DC 20024. Telephone: (202) 287-1445. If possible, please submit all items on a CD, in which case it is not necessary to include printed copies.

No telefacsimilies (faxes) will be accepted. For detailed instructions on submitting comments and additional information on this process, see section III of this document.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at: https://www.regulations.gov/docketBrowser?rpp=25&po=0&D=EERE-2017-BT-TP-0031. The docket web page contains simple instructions on how to access all documents, including public comments, in the docket. See Section III for further information on how to submit comments through http://www.regulations.gov.

FOR FURTHER INFORMATION CONTACT: Mr. Antonio Bouza, U.S. Department of Energy, Office of Energy Efficiency and Renewable Energy, Building Technologies Office, EE-5B, 1000 Independence Avenue SW, Washington, DC 20585-0121. Telephone: (202) 586-4563. Email: Antonio.Bouza@ee.doe.gov.

Mr. Michael Kido, U.S. Department of Energy, Office of the General Counsel, GC-33, 1000 Independence Avenue SW, Washington, DC 20585. Telephone: (202) 586-8145. Email: Michael.Kido@hq.doe.gov.

For further information on how to submit a comment or review other public comments and the docket, contact the Appliance and Equipment Standards Program staff at (202) 287-1445 or by email: ApplianceStandardsQuestions@ee.doe.gov.

SUPPLEMENTARY INFORMATION:

Table of Contents

I. Introduction

A. Authority and Background

B. Rulemaking History

II. Request for Information

A. Scope & Definition

B. Test Procedure

1. Industry Standard

2. Updates to the Federal Test Method

3. Harmonization

C. Other Test Procedure Topics

III. Submission of Comments

I. Introduction

Three-phase commercial air-cooled air conditioners and heat pumps with a cooling capacity of less than 65,000 Btu/h are included in the list of “covered equipment” for which DOE is authorized to establish and amend energy conservation standards and test procedures. (42 U.S.C. 6311(1)(B)) DOE's test procedure for three-phase commercial air-cooled air conditioners and heat pumps with a cooling capacity of less than 65,000 Btu/h is prescribed at 10 CFR 431.96. The following sections discuss DOE's authority to establish and amend the test procedure for three-phase commercial air-cooled air conditioners and heat pumps with a cooling capacity of less than 65,000 Btu/h, as well as relevant background information regarding DOE's consideration of test procedures for this equipment.

A. Authority and Background

The Energy Policy and Conservation Act of 1975 (“EPCA” or “the Act”),¹ Public Law 94-163 (42 U.S.C. 6291-6317, as codified), among other things, authorizes DOE to regulate the energy efficiency of a number of consumer products and industrial equipment. Title III, Part C ² of EPCA, added by Public Law 95-619, Title IV, § 441(a), established the Energy Conservation Program for Certain Industrial Equipment, which sets forth a variety of provisions designed to improve energy efficiency. This equipment includes small commercial package air conditioning and heating equipment—which includes three-phase commercial air-cooled air conditioners and heat pumps with a cooling capacity of less than 65,000 Btu/h, the subject of this RFI. (42 U.S.C. 6311(1)(B); 42 U.S.C. 6311(8)(B))

¹ All references to EPCA in this document refer to the statute as amended through the Energy Efficiency Improvement Act of 2015 (EEIA 2015), Public Law 114-11 (April 30, 2015).

² For editorial reasons, upon codification in the U.S. Code, Part C was redesignated Part A-1.

Under EPCA, the energy conservation program consists essentially of four parts: (1) Testing, (2) labeling, (3) Federal energy conservation standards, and (4) certification and enforcement procedures. Relevant provisions of the Act include definitions (42 U.S.C. 6311), energy efficiency standards (42 U.S.C. 6313), test procedures (42 U.S.C. 6314), labeling provisions (42 U.S.C. 6315), and the authority to require information and reports from manufacturers (42 U.S.C. 6316).

Federal energy efficiency requirements for covered equipment established under EPCA generally supersede State laws and regulations concerning energy conservation testing, labeling, and standards. (42 U.S.C. 6316(a) and (b); 42 U.S.C. 6297) DOE may, however, grant a Federal preemption waiver to a State for a standard prescribed or established under 42 U.S.C. 6313(a)—which details DOE's authority for setting standards applying to commercial package air conditioning and heating equipment—in accordance with specific criteria. See 42 U.S.C. 6316(b)(2)(D).

The Federal testing requirements consist of test procedures that manufacturers of covered equipment must use as the basis for: (1) Certifying to DOE that their equipment complies with the applicable energy conservation standards adopted pursuant to EPCA (42 U.S.C. 6316(b); 42 U.S.C. 6296), and (2) making representations about the efficiency of that equipment (42 U.S.C. 6314(d)). Similarly, DOE must use these test procedures to determine whether the equipment complies with relevant standards promulgated under EPCA.

Under 42 U.S.C. 6314, EPCA sets forth the criteria and procedures DOE follows when prescribing or amending test procedures for covered equipment. EPCA requires that any test procedures prescribed or amended under this section must (1) be reasonably designed to produce test results which reflect the energy efficiency, energy use or estimated annual operating cost of a covered equipment during a representative average use cycle or period of use and (2) not be unduly burdensome to conduct. (42 U.S.C. 6314(a)(2)).

As a category of commercial package air conditioning and heating equipment, EPCA requires that the test procedures for this equipment—including three-phase systems with capacities of less than 65,000 Btu/h—be those generally accepted industry testing procedures or rating procedures developed or recognized by the Air-Conditioning, Heating, and Refrigeration Institute (“AHRI”) or by the American Society of Heating, Refrigerating and Air-Conditioning Engineers (“ASHRAE”), as referenced in ASHRAE Standard 90.1, “Energy Standard for Buildings Except Low-Rise Residential Buildings” (“ASHRAE Standard 90.1”). (42 U.S.C. 6314(a)(4)(A)) Further, if such an industry test procedure is amended, DOE must amend its test procedure to be consistent with the amended industry test procedure, unless DOE determines, by rule published in the Federal Register and supported by clear and convincing evidence, that such amended test procedure would not meet the requirements in 42 U.S.C. 6314(a)(2) and (3) related to representative use and test burden. (42 U.S.C. 6314(a)(4)(B))

In addition, if DOE determines that a test procedure amendment is appropriate, it must publish proposed test procedures and offer the public an opportunity to present oral and written comments on them. (42 U.S.C. 6314(b))

EPCA also requires that, at least once every 7 years, DOE evaluate test procedures for each type of covered equipment, including those at issue here, to determine whether an amended test procedure would more accurately or fully comply with the requirements that the procedure not be unduly burdensome to conduct and be reasonably designed to produce test results that reflect energy efficiency, energy use, and estimated operating costs during a representative average use cycle. (42 U.S.C. 6314(a)(1)) In addition, if DOE determines that a test procedure amendment is warranted, it must publish proposed test procedures and offer the public an opportunity to present oral and written comments on them. (42 U.S.C. 6314(b)) If DOE determines that test procedure revisions are not appropriate, DOE must publish its determination not to amend the test procedures. (42 U.S.C. 6314(a)(1)(A)(ii))

DOE is publishing this RFI to collect data and information to inform its decision consistent with its obligations under EPCA.

B. Rulemaking History

DOE's test procedure for three-phase commercial air-cooled air conditioners and heat pumps with a cooling capacity of less than 65,000 Btu/h is codified at 10 CFR 431.96. The test procedure was last amended on May 16, 2012, to incorporate by reference ANSI/AHRI Standard 210/240-2008, “2008 Standard for Performance Rating of Unitary Air-Conditioning & Air-Source Heat Pump Equipment,” approved by ANSI on October 27, 2011, and updated by addendum 1 in June 2011 and addendum 2 in March 2012 (“AHRI 210/240-2008”). 77 FR 28928 (May 16, 2012). The May 2012 final rule also established additional testing requirements at 10 CFR 431.96(c) and (e), applicable to measuring seasonal energy efficiency ratio (“SEER”) and heating seasonal performance factor (“HSPF”) for this equipment. Id. ASHRAE Standard 90.1 was updated on October 26, 2016,³ but did not revise the test procedures for three-phase commercial air-cooled air conditioners and heat pumps with a cooling capacity of less than 65,000 Btu/h. In late 2017, AHRI published an updated version of its standard, AHRI 210/240-2017. As outlined further in this document, that updated standard made a number of changes that are of relevance to DOE's current procedure.

³ There is no publication date printed on ASHRAE Standard 90.1-2016, but ASHRAE issued a press release on October 26, 2016, which can be found at https://www.ashrae.org/news/2016/ashraeies-publish-2016-energy-efficiency-standard.

II. Request for Information

In the following sections, DOE has identified a variety of issues on which it seeks input to aid in the development of the technical and economic analyses regarding whether to amend the test procedures for three-phase commercial air-cooled air conditioners and heat pumps with a cooling capacity of less than 65,000 Btu/h. Specifically, DOE is requesting comment on opportunities to streamline and simplify the testing requirements for this equipment.

Additionally, DOE welcomes comments on other issues relevant to the conduct of this process that may not specifically be identified in this document. In particular, DOE notes that under Executive Order 13771, “Reducing Regulation and Controlling Regulatory Costs,” Executive Branch agencies such as DOE are directed to manage the costs associated with the imposition of expenditures required to comply with Federal regulations. See 82 FR 9339 (Feb. 3, 2017). Consistent with that Executive Order, DOE encourages the public to provide input on measures DOE could take to lower the cost of its regulations applicable to the equipment at issue in a manner consistent with the requirements of EPCA.

A. Scope and Definition

Three-phase commercial air-cooled air conditioners and heat pumps with a cooling capacity of less than 65,000 Btu/h are a category of small commercial package air conditioning and heating equipment. Commercial package air-conditioning and heating equipment may be air-cooled, water-cooled, evaporatively-cooled, or water sourced (not including ground water source), and are electrically-operated, unitary central air conditioners or central air-conditioning heat pumps that are used for commercial applications. 10 CFR 431.92.

Three-phase commercial air-cooled air conditioners and heat pumps with a cooling capacity of less than 65,000 Btu/h are further disaggregated into four equipment classes: Three-phase air-cooled single-package air conditioners, three-phase air-cooled single-package heat pumps, three-phase air-cooled split-system air conditioners, and three-phase air-cooled split-system heat pumps. This RFI seeks comment on the test procedure applicable to all four equipment classes.

B. Test Procedure

1. Industry Standard

As noted, the current DOE test procedure at 10 CFR 431.96 for three-phase commercial air-cooled air conditioners and heat pumps with a cooling capacity of less than 65,000 Btu/h incorporates by reference AHRI 210/240-2008 (except section 6.5), which is also referenced in the current version of ASHRAE Standard 90.1 (i.e., “ASHRAE 90.1-2016”). AHRI 210/240-2008 includes as normative appendix C the entirety of 10 CFR part 430, subpart B, appendix M (“Appendix M”) as amended by a final rule published on October 22, 2007. (72 FR 59906) Appendix M provides the test procedure for determining the efficiency of single-phase central air conditioners and heat pumps with rated cooling capacities of less than 65,000 Btu/h, a consumer product covered under 10 CFR part 430.

In late 2017, AHRI updated the incorporated industry standard, releasing AHRI 210/240-2017. Many of the revisions in the update attempted to harmonize AHRI 210/240-2017 with the updated federal test method for single-phase central air conditioners and heat pumps with rated cooling capacities of less than 65,000 Btu/h. AHRI 210/240-2017 no longer includes any version of Appendix M as a normative appendix, but has integrated requirements consistent with Appendix M throughout the standard.⁴ AHRI 210/240-2017 also includes additional updates beyond integrating the revised Appendix M. DOE understands that these changes, if adopted, would not conflict with Appendix M and would be highly unlikely to impact the measured efficiency of the subject equipment during a representative average use cycle as compared to conducting a test relying on the provisions already contained in Appendix M.⁵

⁴ The inclusion of Appendix M as a normative appendix indicated that Appendix M was required to be followed when testing in accordance with AHRI 210/240-2008. As a result, AHRI's direct integration of Appendix M's provisions into AHRI 210/240-2017 achieves the same objective without the need for the previous normative appendix.

⁵ For example, AHRI 210/240-2017 has stricter requirements for heat balance than does Appendix M, which also would be acceptable under Appendix M (i.e., they are not less strict requirements).

2. Updates to the Federal Test Method

On June 8, 2016, subsequent to the incorporation of Appendix M into AHRI 210/240-2008, DOE published a test procedure final rule that amended Appendix M. 81 FR 36992 (“June 2016 final rule”).⁶ DOE further amended Appendix M in a final rule published on January 5, 2017, to improve test repeatability, reduce testing burden, and improve the accuracy of field representativeness of the testing values without impacting the measured energy consumption. 82 FR 1426 (“January 2017 final rule”). The January 2017 final rule also established Appendix M1, which specifies new efficiency metrics SEER2, EER2, and HSPF2 that, while based on the efficiency metrics in Appendix M for cooling and heating performance, generally have different numerical values than the metrics used in Appendix M. 10 CFR part 430, subpart B, appendix M1 (“Appendix M1”). These new metrics were developed to avoid confusion with the metrics that are currently in use under Appendix M. See 82 FR 1437 (explaining DOE's decision to adopt new metrics SEER2, EER2, and HSPF2). Beginning on January 1, 2023, efficiency representations for single-phase central air conditioners and heat pumps with rated cooling capacities of less than 65,000 Btu/h must be based on the test procedure in Appendix M1. Both Appendix M and Appendix M1 reference AHRI 210/240-2008, sections 6.1.3.2, 6.1.3.4, 6.1.3.5 and figures D1, D2, D4, along with sections of AHRI 1230-2010, ASHRAE 23.1-2010, ASHRAE 37-2009, ASHRAE 41.1-2013, ASHRAE 41.2-1987 (RA 1992), ASHRAE 41.6-2014, ASHRAE 41.9-2011, ASHRAE 116-2010, and AMCA 210-2007.

⁶ A correction was issued on August 18, 2016, correcting a number of editorial errors. 81 FR 55111.

Additionally, both the June 2016 and the January 2017 final rules adopted amendments related to the certification, compliance, and enforcement of single-phase central air conditioners and heat pumps with rated cooling capacities of less than 65,000 Btu/h, codified in 10 CFR part 429. The amendments included revisions to the basic model definition, clarifying definitions, revisions to the testing and other requirements for determining represented values, additional certification reporting requirements, and additional product-specific enforcement provisions.

3. Harmonization

DOE understands that the equipment at issue are often nearly identical to single-phase central air conditioners and heat pumps with rated cooling capacities of less than 65,000 Btu/h. Specifically, DOE understands that three-phase equipment models generally are manufactured on the same production lines and are physically identical to their corresponding single-phase central air conditioner and heat pump models—with the exception generally being that the former have three-phase electrical systems—and use components—primarily compressors—that are designed for three-phase power input. Other key operational components, such as heat exchangers and fans, are typically identical for three-phase and single-phase designs of a given model family. In addition, DOE found that most manufacturers' model numbers for single-phase products and three-phase equipment are interchangeable and that there is consistency in energy efficiency ratings between them, i.e., three-phase and single-phase models of the same unit have the same efficiency. See, e.g., 80 FR 42614, 42622 (July 17, 2015).

In light of these facts, DOE is considering whether to harmonize the test procedures for three-phase commercial air-cooled air conditioners and heat pumps with capacities of less than 65,000 Btu/h with those used to test single-phase central air conditioners and heat pumps with capacities of less than 65,000 Btu/h.⁷ Having the same test procedure for essentially identical equipment may reduce manufacturer burden as compared to having to follow two separate test procedures. Furthermore, reliance on the current version of Appendix M (or Appendix M1 ⁸), as opposed to the prior version referenced in AHRI 210/240-2008, would capture the amendments DOE has made to improve test repeatability and reduce burden, which may lead to improved manufacturer and consumer confidence in ratings. Additionally, harmonization of the test procedures would provide for more comparable information between the three-phase equipment and the single-phase products. Commercial customers considering either single-phase or three-phase equipment would have ratings for both that are based on identical testing requirements when evaluating product options. For these reasons, DOE is weighing whether to modify its procedure for the equipment at issue by referencing the most recently updated version of the test procedure applicable to single-phase central air conditioners (i.e., Appendix M or Appendix M1), as opposed to AHRI 210/240. DOE is also considering referencing the updated AHRI 210/240-2017, which reflects the latest amendments made in the updated version of Appendix M. DOE seeks comment on the merits of adopting AHRI 210/240-2017 as compared to adopting the updated version of Appendix M.

⁷ The current standards in effect for the three-phase systems and the single-phase systems are presently harmonized. (See Tables 3 and 4 to 10 CFR 431.97 and 10 CFR 430.32(c)(1).)

⁸ Beginning January 1, 2023, manufacturers will be required to test and certify single-phase central air conditioner and heat pumps to the test procedure in Appendix M1. The changes in Appendix M1 likely will impact the measured energy efficiency of tested units, and such impacts are reflected in the amended energy conservation standards that apply to these products beginning January 1, 2023. 82 FR 1786 (January 6, 2017).

DOE seeks comment on a number of key issues related to whether, and if so how, it should amend its test procedures for three-phase commercial air-cooled air conditioners and heat pumps.

(1) DOE requests comment on whether it should align its test procedure for three-phase commercial air-cooled air conditioners and heat pumps with cooling capacities of less than 65,000 Btu/h with the test procedure for single-phase air-cooled air conditioners and heat pumps with cooling capacities of less than 65,000 Btu/h. DOE requests comments and information on the merits of referencing the current version of Appendix M of 10 CFR part 430, subpart B, or some portion thereof, for the three-phase systems at issue versus the merits of referencing the updated AHRI 210/240-2017, which reflects the updated Appendix M. DOE requests information on the extent that either such amendment would impact a manufacturer's test burden as well as the relative merits of each approach.

As noted, beginning January 1, 2023, single-phase air-cooled air conditioners and heat pumps must be tested according to Appendix M1. DOE recognizes that testing of three-phase commercial air-cooled air conditioners and heat pumps with a cooling capacity of less than 65,000 Btu/h under Appendix M1 may impact the measured energy efficiency of the tested units. AHRI 210/240-2017 does not contain updates to account for the more recent changes contained in Appendix M1; DOE understands that AHRI intends to address Appendix M1 in a separate revision at a later date. DOE requests comment on the appropriateness of testing three-phase commercial air-cooled air conditioners and heat pumps according to Appendix M1, or some part thereof. DOE requests any information and data on testing manufacturers may have performed with three-phase systems using the procedure in Appendix M1. DOE requests comment and information on the impact to a manufacturer's test burden that would be expected if the equipment at issue were subject to testing under Appendix M1.

(2) DOE also requests comment on whether the general structure and language related to its certification, compliance, and enforcement requirements for three-phase systems in 10 CFR part 429 should mirror the structure, language, and certification, compliance, and enforcement requirements for single-phase systems already found in 10 CFR part 429. DOE notes that AHRI 210/240-2017 includes many updates to mirror these requirements, regardless of the phase of the equipment. If DOE were to adopt such an approach, what would be the advantages and disadvantages in doing so? DOE is also particularly interested in information on the extent that such an amendment would impact a manufacturer's certification and reporting test burden.

C. Other Test Procedure Topics

In addition to the issues identified earlier in this document, DOE welcomes comment on any other aspect of the existing test procedures for three-phase commercial air-cooled air conditioners and heat pumps with cooling capacity of less than 65,000 Btu/h not already addressed by the specific areas identified in this document. DOE particularly seeks information that would improve the repeatability, reproducibility, and consumer representativeness of the test procedures. DOE also requests information that would help DOE create a procedure that would limit manufacturer test burden through streamlining or simplifying testing requirements. Comments regarding the repeatability and reproducibility are also welcome.

DOE also requests feedback on any potential amendments to the existing test procedure that could be considered to address impacts on manufacturers, including small businesses. Regarding the Federal test method, DOE seeks comment on the degree to which the DOE test procedure should consider and be harmonized with the most recent relevant industry standards for three-phase commercial air-cooled air conditioners and heat pumps with a cooling capacity of less than 65,000Btu/h and whether there are any changes to the DOE test method that would provide additional benefits to the public. DOE also requests comment on the benefits and burdens of adopting any industry/voluntary consensus-based or other appropriate test procedure, without modification. As discussed, the current test procedure for three-phase commercial air-cooled air conditioners and heat pumps with cooling capacity of less than 65,000 Btu/h references AHRI 210/240-2008, and also establishes additional specifications necessary to address an optional break-in period and set-up of the units to be tested. 10 CFR 431.96(c) and (e). AHRI 210/240-2008 incorporates a version of the DOE test procedure for single-phase air-cooled air conditioners and heat-pumps that has since become outdated. The updated version of the industry standard, AHRI 210/240-2017, has been revised to reflect subsequent amendments to that DOE test procedure that were made to improve the repeatability and reproducibility of the test procedure, as well as to provide clarifying revisions.

Additionally, DOE requests comment on whether the existing test procedures limit a manufacturer's ability to provide additional features to commercial consumers on three-phase commercial air-cooled air conditioners and heat pumps with a cooling capacity of less than 65,000 Btu/h. DOE particularly seeks information on how the test procedures could be amended to reduce the cost of new or additional features and make it more likely that such features are included on three-phase commercial air-cooled air conditioners and heat pumps with a cooling capacity of less than 65,000 Btu/h.

Finally, DOE requests comment on whether there are models currently on the market that have unique characteristics preventing them from being tested by the current DOE test procedure or for which the test procedure is unrepresentative. If so, DOE requests information on modifications that could be made to the test procedure to accommodate such models.

III. Submission of Comments

DOE invites all interested parties to submit in writing by December 3, 2018, comments and information on matters addressed in this notice and on other matters relevant to DOE's consideration of whether and how to amend the test procedure for three-phase commercial air-cooled air conditioners and heat pumps with cooling capacity of less than 65,000 Btu/h. These comments and information will aid in the development of a test procedure notice of proposed rulemaking for three-phase commercial air-cooled air conditioners and heat pumps with cooling capacity of less than 65,000 Btu/h if DOE determines that amended test procedures may be appropriate for this equipment.

Submitting comments via http://www.regulations.gov. The http://www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. Persons viewing comments will see only first and last names, organization names, correspondence containing comments, and any documents submitted with the comments.

Do not submit to http://www.regulations.gov information for which disclosure is restricted by statute, such as trade secrets and commercial or financial information (hereinafter referred to as Confidential Business Information (“CBI”)). Comments submitted through http://www.regulations.gov cannot be claimed as CBI. Comments received through the website will waive any CBI claims for the information submitted. For information on submitting CBI, see the Confidential Business Information section.

DOE processes submissions made through http://www.regulations.gov before posting. Normally, comments will be posted within a few days of being submitted. However, if large volumes of comments are being processed simultaneously, your comment may not be viewable for up to several weeks. Please keep the comment tracking number that http://www.regulations.gov provides after you have successfully uploaded your comment.

Submitting comments via email, hand delivery, or mail. Comments and documents submitted via email, hand delivery, or mail also will be posted to http://www.regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. If you submit via mail or hand delivery, please provide all items on a CD, if feasible. It is not necessary to submit printed copies. No facsimiles (faxes) will be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. According to 10 CFR 1004.11, any person submitting information that he or she believes to be confidential and exempt by law from public disclosure should submit via email, postal mail, or hand delivery two well-marked copies: One copy of the document marked confidential including all the information believed to be confidential, and one copy of the document marked “non-confidential” with the information believed to be confidential deleted. Submit these documents via email or on a CD, if feasible. DOE will make its own determination about the confidential status of the information and treat it according to its determination.

Factors of interest to DOE when evaluating requests to treat submitted information as confidential include (1) a description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

It is DOE's policy that all comments may be included in the public docket, without change and as received, including any personal information provided in the comments (except information deemed to be exempt from public disclosure).

DOE considers public participation to be a very important part of the process for developing test procedures and energy conservation standards. DOE actively encourages the participation and interaction of the public during the comment period in each stage of this process. Interactions with and between members of the public provide a balanced discussion of the issues and assist DOE in the process. Anyone who wishes to be added to the DOE mailing list to receive future notices and information about this process should contact Appliance and Equipment Standards Program staff at (202) 287-1445 or via email at ApplianceStandardsQuestions@ee.doe.gov.

Signed in Washington, DC, on September 26, 2018.
Kathleen B. Hogan,
Deputy Assistant Secretary for Energy Efficiency Energy Efficiency and Renewable Energy.

[FR Doc. 2018-21401 Filed 10-1-18; 8:45 am]

BILLING CODE 6450-01-P